DEPARTMENT OF ENERGY

Federal Energy Regulatory Commission

[Project No. 2232-485-NC]

Duke Power, a Division of Duke Energy Corporation; Notice of Availability of Draft Environmental Assessment

April 28, 2006.

In accordance with the National Environmental Policy Act of 1969 and the Federal Energy Regulatory Commission's (Commission) regulations, 18 CFR part 380 (Order No. 486, 52 FR 47897), the Office of Energy Projects has reviewed an application for non-project use of project lands and waters at the Catawba-Wateree Project (FERC No. 2232), and has prepared a draft environmental assessment (DEA) for the proposal. The proposed non-project use would be located on Lake James in McDowell County, North Carolina.

In the application, Duke Power (licensee) requests Commission authorization to lease to Black Bear Development, Inc. 6.57 acres of project land for a commercial/non-residential marina. The marina would be located on Lake James at the Bear Cliff Community, a planned lakefront development combining a private residential development and a public day-use area. The DEA contains the Commission staff's analysis of the probable environmental impacts of the proposed marina.

The DEA is available for review and reproduction at the Commission's Public Reference Room, located at 888 First Street, NE., Room 2A, Washington, DC 20426. The DEA may also be viewed on the Commission's Web site at http://www.ferc.gov using the “elibrary” link. Enter the dock number (prefaced by P-) and excluding the last three digits, in the docket number field to access the document. For assistance, contact FERC Online Support at FERCOnlineSupport@ferc.gov or toll-free at (866) 208-3676, or for TTY, contact (202) 502-8659.

Comments on the DEA should be filed within 30 days of the date of this notice and should be addressed to Magalie Roman Salas, Secretary, Federal Energy Regulatory Commission, 888 First Street, NE., Washington, DC 20426. Please reference “Catawba-Wateree Project, FERC Project No. 2232-485” on all comments. Comments may be filed electronically via the Internet in lieu of paper. See, 18 CFR 385.2001(a)(1)(iii) and the instructions on the Commission's Web site under the “e-Filing” link.

Magalie R. Salas,
Secretary.

[FR Doc. E6-6852 Filed 5-4-06; 8:45 am]

BILLING CODE 6717-01-P